ENVIRONMENTAL PROTECTION AGENCY

40 CFR Part 271

[EPA-R08-RCRA-2006-0382; FRL-8541-5]

Colorado: Final Authorization of State Hazardous Waste Management Program Revisions

AGENCY: Environmental Protection Agency (EPA).

ACTION: Immediate final rule.

SUMMARY: The Solid Waste Disposal Act, as amended, commonly referred to as the Resource Conservation and Recovery Act (RCRA), allows the Environmental Protection Agency (EPA) to authorize States to operate their hazardous waste management programs in lieu of the federal program. Colorado has applied to EPA for final authorization of the changes to its hazardous waste program under RCRA. EPA has determined that these changes satisfy all requirements needed to qualify for final authorization and is authorizing the State's changes through this immediate final action.

DATES: This final authorization will become effective on May 12, 2008, unless the EPA receives adverse written comment by April 11, 2008. If adverse comment is received, EPA will publish a timely withdrawal of the immediate final rule in the Federal Register informing the public that the rule will not take effect.

ADDRESSES: Submit your comments, identified by Docket ID No. EPA-R08-RCRA-2006-0382, by one of the following methods:

• Federal eRulemaking Portal: http://www.regulations.gov.

Follow the on-line instructions for submitting comments.

• E-mail: daly.carl@epa.gov.

• Fax: (303) 312-6341.

• Mail: Send written comments to Carl Daly, Solid and Hazardous Waste Program, EPA Region 8, Mailcode 8P-HW, 1595 Wynkoop Street, Denver, Colorado 80202-1129.

• Hand Delivery or Courier: Deliver your comments to Carl Daly, Solid and Hazardous Waste Program, EPA Region 8, Mailcode 8P-HW, 1595 Wynkoop Street, Denver, Colorado 80202-1129. Such deliveries are only accepted during the Regional Office's normal hours of operation. The public is advised to call in advance to verify the business hours. Special arrangements should be made for deliveries of boxed information.

Instructions: Direct your comments to Docket ID No. EPA-R08-RCRA-2006-0382. EPA's policy is that all comments received will be included in the public docket without change, including any personal information provided, unless the comment includes information claimed to be Confidential Business Information (CBI) or other information whose disclosure is restricted by statute. Do not submit information that you consider to be CBI or otherwise protected through http://www.regulations.gov, or e-mail. The federal web site, http://www.regulations.gov, is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties, and cannot contact you for clarification, EPA may not be able to consider your comment. Electronic files should avoid the use of special characters or any form of encryption, and be free of any defects or viruses. For additional information about EPA's public docket, visit the EPA Docket Center homepage at http://www.epa.gov/epahome/dockets.htm.

Docket: All documents in the docket are listed in the http://www.regulations.gov index. Although listed in the index, some information may not be publicly available, e.g., CBI or other information whose disclosure is restricted by statute. Certain other material, such as copyrighted material, will be publicly available only in hard copy. Publicly available docket materials are available either electronically through www.regulations.gov or in hard copy at: EPA Region 8, from 9 a.m. to 4 p.m., 1595 Wynkoop Street, Denver, Colorado; contact: Carl Daly, phone number (303) 312-6416, or the Colorado Department of Public Health and Environment, from 9 a.m. to 4 p.m., 4300 Cherry Creek Drive South, Denver, Colorado 80222-1530; contact: Randy Perila, phone number (303) 692-3364. The public is advised to call in advance to verify the business hours.

FOR FURTHER INFORMATION CONTACT: Carl Daly, Solid and Hazardous Waste Program, EPA Region 8, 1595 Wynkoop Street, Denver, Colorado 80202, (303) 312-6416, daly.carl@epa.gov.

SUPPLEMENTARY INFORMATION:

A. Why Are Revisions to State Programs Necessary?

States which have received final authorization from EPA under RCRA section 3006(b), 42 U.S.C. 6926(b), must maintain a hazardous waste program that is equivalent to, consistent with, and no less stringent than the federal program. As the federal program changes, States must change their programs and ask EPA to authorize the changes. Changes to State programs may be necessary when federal or state statutory or regulatory authority is modified or when certain other changes occur. Most commonly, States must change their programs because of changes to EPA's regulations in 40 Code of Federal Regulations (CFR) parts 124, 260 through 266, 268, 270, 273 and 279.

B. What Decisions Have We Made in This Rule?

We conclude that Colorado's application to revise its authorized program meets all of the statutory and regulatory requirements established by RCRA. Therefore, we grant Colorado final authorization to operate its hazardous waste program with the changes described in the authorization applications. Colorado has responsibility for permitting Treatment, Storage, and Disposal Facilities (TSDFs) within its borders, except in Indian Country, and for carrying out the aspects of the RCRA program described in its revised program application, subject to the limitations of the Hazardous and Solid Waste Amendments of 1984 (HSWA). New federal requirements and prohibitions imposed by federal regulations that EPA promulgates under the authority of HSWA take effect in authorized States before they are authorized for the requirements. Thus, EPA will implement those requirements and prohibitions in Colorado, including issuing permits, until Colorado is authorized to do so.

C. What is the Effect of This Authorization Decision?

This decision means that a facility in Colorado subject to RCRA will now have to comply with the authorized State requirements instead of the equivalent federal requirements in order to comply with RCRA. Colorado has enforcement responsibilities under its State hazardous waste program for violations of such program, but EPA retains its authority under RCRA sections 3007, 3008, 3013, and 7003, which include, among others, authority to: (1) Conduct inspections; require monitoring, tests, analyses, or reports; (2) enforce RCRA requirements; suspend or revoke permits; and, (3) take enforcement actions regardless of whether Colorado has taken its own actions.

This action does not impose additional requirements on the regulated community because the regulations for which Colorado is being authorized by this action are already effective and are not changed by this action.

D. Why Wasn't There a Proposed Rule Before This Rule?

EPA did not publish a proposal before this rule because we view this as a routine program change. We are providing an opportunity for the public to comment now. In addition to this rule, in the proposed rules section of today's Federal Register we are publishing a separate document that proposes to authorize the State program changes.

E. What Happens if EPA Receives Comments That Oppose This Action?

If EPA receives comments that oppose this authorization, we will withdraw this rule by publishing a document in the Federal Register before the rule becomes effective. EPA will base any further decision on the authorization of the State program changes on the proposal mentioned in the previous paragraph. We will then address all public comments in a later final rule. You may not have another opportunity to comment, therefore, if you want to comment on this authorization, you must do so at this time.

If we receive comments that oppose only the authorization of a particular change to the Colorado hazardous waste program, we will withdraw that part of this rule but the authorization of the program changes that the comments do not oppose will become effective on the date specified above. The Federal Register withdrawal document will specify which part of the authorization will become effective and which part is being withdrawn.

F. For What Has Colorado Previously Been Authorized?

Colorado initially received final authorization on October 19, 1984, effective November 2, 1984 (49 FR 41036) to implement the RCRA hazardous waste management program. We granted authorization for changes to their program on October 24, 1986, effective November 7, 1986 (51 FR 37729); May 15, 1989, effective July 14, 1989 (54 FR 20847); May 10, 1991, effective July 9, 1991 (56 FR 21601); April 7, 1994, effective June 6, 1994 (59 FR 16568); and November 14, 2003, effective January 13, 2004 (68 FR 64550).

G. What Changes Are We Authorizing With This Action?

Colorado submitted complete program revision applications on December 31, 2002, September 23, 2003, and December 23, 2003 seeking authorization of their changes in accordance with 40 CFR 271.21. Some of the revisions that Colorado submitted in these applications are not granted approval at this time. We now make an immediate final decision, subject to receipt of written comments that oppose this action that Colorado's hazardous waste program revisions listed here satisfy all of the requirements necessary to qualify for final authorization. Therefore, we grant Colorado final authorization for the following program changes (the federal citation followed by the analog from the Code of Colorado Regulations (6 CCR 7007-3), revised through December 30, 2004, unless otherwise noted: Financial Responsibility; Settlement Agreement (55 FR 25976, 6/26/90)(Checklist 24A)/264.113(a)-(c) and 265.113(a)-(c); Permit Modifications for Hazardous Waste Management Facilities (53 FR 37912, 9/28/88 & 53 FR 41649, 10/24/88)(Checklists 54 & 54.1)/100.60(c)(1)&(3), 264.54(e), 264.112(c), 264.118(d), 265.112(c)(3)&(4), 265.118(d), 260.10, 100.42(l)(2), 100.62(a)&(b), 100.61, 100.63, and Part 100, Appendix I, 100.22(c)&(d); Delay of Closure Period for Hazardous Waste Management Facilities (54 FR 33376, 8/14/89)(Checklist 64)/264.13(a)&(b), 264.112(d)(2), 264.113, 266.12(a)(3)&(4), 265.13(a)&(b), 265.112(d), 265.113, and Part 100, Appendix I; Land Disposal Restrictions for Newly Listed Wastes (57 FR 37194, 08/18/92)(Checklist 109)/100.20(b)(6), 100.40(a)(13), 100.41(a)(2), 100.63(e)(3)(ii)(B), 100.63 Appendix I, I(6), 100.63 Appendix I, 100.63 Appendix I & M, 260.10, 261.3(a)(2)(iii), 261.3(c)(2)(ii)(C)(1)&(2), 261.3(f), 262.34(a)(1)(iii), 262.34(a)(1)(iii)(B), 262.34(a)(1)(iv), 262.34(a)(2), 264.110(b), 264.111(c), 264.112(a)(2), 264.1100-1100(e), 264.1101(a)-(e), 264.1102(a)&(b), 265.110(b)(1)-(b)(4), 265.111(c), 265.112(d)(4), 265.221(h), 265.1100-1100(e), 265.1101(a)-(e), 265.1192(a)&(b), 266.10(b)-(b)(4), 266.12(a), 268.2(g), 268.2(h), 268.5 (reserved), 268.7(a)(1)(iii)-(v), 268.7(a)(2), 268.7(a)(3)(iv)-(vi), 268.7(a)(4), 268.7(b)(4)&(5), 268.7(d), 268.9(d), 268.14(a)-(c), 268.36(a)-(i), 268.40(b)&(d), 268.41(a), 268.41(a)/Table CCWE, 268.41(c), 268.42/Table 2, 268.42(b)&(d), 268.43/Table CCW, 268.45(a)-(d)(5), 268.45/Table 1, 268.46, 268.46/Table 1, 268.50(a)(1)&(2), and 268 Appendix II; Consolidated Liability Requirements (53 FR 33938, 9/1/88; 56 FR 30200, 7/1/91; and 57 FR 42832, 9/16/92)(Checklists 113, 113.1, & 113.2)/266.11(h), 266.14(i)(11), 266.16(a),(b),(f),(g),&(i)-(m), and 266.18(f)&(h)-(n); Removal of the Conditional Exemption for Certain Slag Residues (59 FR 43496, 08/24/94)(Checklist 136)/267.20(c) and 268.41; Universal Waste Rule (60FR 25492, 05/11/95)(Checklist 142E)/260.20(a), 260.23(a)-(d), 273.80(a)-(c), and 273.81(a)-h); Removal of Legally Obsolete Rules (60 FR 33912, 06/29/95)(Checklist 144)/100.11(b)(1), 100.11(c)(2), and 100.11(d); RCRA Expanded Public Participation (60 FR 63417, 12/11/95)(Checklist 148)/100.11(f)(1)-(4)(ii)(E), 100.22(a)(5), 100.22(c)(2)(vi)-(x), 100.22(c)(4), 100.41(a)(22), 100.42(n), 100.506(a)(1)(vi) 100.506(a)(1)(vii), 100.506(f)(1)-(5), and 260.10; Imports & Exports of Hazardous Waste: Implementation of OECD Council Decision (61 FR 16290, 04/12/96)(Checklist 152)/261.6(a)(5), 261.10(d) thru (h), 262.53(b), 262.56(b), 262.58(a)&(b), 262.80(a)&(b), 262.81 thru (L), 262.82(a) thru (c)(3), 262.83(a) thru (e)(12), 262.84(a) thru (e), 262.85(a) thru (g), 262.86(a)&(b), 262.87(a) thru (c)(2), 262.88, 268.89(a) thru (e), 263.10(c), 263.20(a), 264.12(a)(1)&(2), 264.71(d), 265.12(a)(1)&(2), 265.71(d), 267.70(b)(2)&(3), 273.20, 273.40, 273.56, 273.79 intro, and 273.70(d); Military Munitions Rule (62 FR 06622, 2/12/97)(Checklist 156)/260.10, 262.20(f), 264.1(g)(8)(iv), 265.1(c)(11)(iv), 267.200-267.202, and 100.10(a)(8); Organic Air Emission Standards for Tanks, Surface Impoundments, and Containers; Clarification & Technical Amendment (62 FR 64636, 12/8/97)(Checklist 163)/100.41(a)(5), 264.15(b)(4), 264.73(b)(6), 264.1030(b)(3), 264.1030(c)&(e), 264.1031, 264.1033(a)(2)(i) thru (iv), 264.1050(b)(3), 264.1050(c)&(f), 264.1060(a) thru (b)(4), 264.1062(b)(2)&(3), 264.1064(g)(6), 264.1064(m), 264.1080(b)(1), 264.1080(c), 264.1082(b), 264.1082(c)(2)(ix)(A)&(B), 264.1082(c)(3), 264.1083(a)(2), 264.1083(b)(1), 264.1083(c)(4)(ii), 264.1084(c)(2)(iii), 264.1084(c)(2)(iii)(B) thru (B)(2), 264.1084(e)(4), 264.1084(f)(3)(i)(D)(4), 264.1084(f)(3)(iii), 264.1084(f)(4), 264.1084(j)(2)(iii), 264.1085(b)(2), 264.1085(d)(1)(iii), 264.1085(d)(2)(i)(B), 264.1085(e)(2)(iii), 264.1086(c)(2), 264.1086(c)(4)(i), 264.1086(d)(2), 264.1086(d)(4)(i), 264.1086(g), 264.1087(c)(3)(ii), 264.1087(c)(7), 264.1089(a), 264.1089(b)(1)(ii)(B), 264.1089(f)(1), 264.1089(j), 265.15(b)(4), 265.73(b)(6), 265.1030(b)(3), 265.1030(d), 265.1033(a)(2)(i) thru (iv), 265.1033(f)(2)(vi)(B), 265.1050(b)(3), 265.1050(e), 265.1060(a)&(b), 265.1062(b)(2)&(3), 265.1064(g)(6), 265.1064(m), 265.1080(b)(1), 265.1080(c), 265.1081, 265.1082(a) thru (d), 265.1083(b), 265.1083(c)(2)(i), 265.1083(c)(2)(ix)(A)&(B), 265.1083(c)(3), 265.1083(c)(4)(ii), 265.1084(a)(2), 265.1084(a)(3)(ii)(B), 265.1084(a)(3)(iii)& (3)(A), 265.1084(a)(3)(iii)(F)&(G), 265.1084(a)(3)(iv)&(v), 265.1084(a)(4)(iv, 265.1084(b)(1), 265.1084(b)(3)(ii)(B), 265.1084(b)(3)(iii), 265.1084(b)(3)(iii)(F)&(G), 265.1084(b)(3)(iv)&(v), 265.1084(b)(8)(iii), 265.1084(b)(9)(iv), 265.1084(d)(5)(ii), 265.1085(c)(2)(iii), 265.1085(c)(2)(iii)(B) thru (B)(2), 265.1085(e)(4), 265.1085(f)(3)(i)(D)(4), 265.1085(f)(4), 265.1085(j)(2)(iii), 265.1086(b)(2), 265.1086(d)(1)(iii), 265.1086(d)(2)(i)(B), 265.1086(e)(2)(iii), 265.1087(c)(4)(i), 265.1087(d)(4)(i), 265.1087(g), 265.1088(c)(3)(ii), 265.1088(c)(7), 265.1090(a), 265.1090(b)(1)(ii)(B), 265.1090(f)(1), 265.1090(j), and 265 Appendix VI; Land Disposal Restrictions Phase IV—Treatment Standards for Metal Wastes & Mineral Processing Wastes (63 FR 28556, 5/26/98)(Checklist 167A)/268.2(i), 268.3(d), 268.34(a) thru (e), 268.40(e)&(h), 268/Table “Treatment Standards for Hazardous Wastes”, and 268.48(a)/Table UTS; Land Disposal Restrictions Phase IV—Corrections (63 FR 28556, 5/26/98 and 63 FR 31266, 6/8/98)(Checklists 167C and 167C.1)/268.4(a)(2)(ii)&(iii), 268.7(a)(7), 268.7(b)(3)(ii)/Table, 268.7(b)(4)(iv)&(v), 268.7(b)(5)&(6), 268.40(e), 268.40/Table, 268.42(a), 268.45(a) intro, 268.45(d)(3)&(4), 268.48/Table UTS, 268 Appendix VII/Tables 1&2, and 268 Appendix VIII; Organic Air Emission Standards—Clarification & Technical Amendments (64 FR 03382, 1/21/99)(Checklist 177)/262.34(a)(1)(i)&(ii), 264.1031, 264.1080(b)(5), 264.1083(a)(1)(i)&(ii), 264.1083(b)(1)(i)&(ii), 264.1084(h)(3), 264.1086(e)(6), 265.1080(b)(5), 265.1084(a)(1)(i)&(ii), 265.1084(a)(3)(ii)(B)&(D), 265.1084(a)(3)(iii), 265.1084(b)(1)(i)&(ii), 265.1084(b)(3)(ii)(B)(&(D), 265.1084(b)(3)(iii), 265.1085(h)(3), and 265.1087(e)(6); Universal Waste Rule: Specific Provisions for Hazardous Waste Lamps (64 FR 36466, 07/06/99)(Checklist 181)/260.10, 261.9(a)(2),(3)&(5), 264.1(g)(11)(ii),(iii)&(v), 265.1(c)(14)(ii),(iii)&(v), 268.1(f)(2),(3)&(5), 100.10(a)(14)(ii),(iii)&(v), 273.1(a)(2),(3)&(5), 273.2(a)(1)(i), 273.2(a)(2)(ii)&(iii), 273.2(b)(1), 273.2(c)(1), 273.2(e), 273.6&7, 273.8(a)&(b), 273.9 “lamp”, “large quantity handler of universal waste”, “small quantity handler of universal waste”, & “universal waste”, 273.10, 273.13(e), 273.30, 273.32(b)(4), 273.33(b)(5), 273.33(e), 273.34(f), 273.50, 273.60(a), and 273.81(a); Organobromine Production Wastes Vactur (65 FR 14472, 03/17/00)(Checklist 185)/261.32/Table, 261.33(f)/Table, 261 Appendix VII & VIII, 268.33, 268.40/Table, and 268.48/Table; Mixture & Derived-From Rules Revisions (66 FR 27266, 06/16/01)(Checklist 192A)/261.3(a)(2)(iii)&(iv), 261.3(c)(2)(i), and 261.3(g)(1)-(3); Land Disposal Restrictions Correction (66 FR 27266, 05/16/01)(Checklist 192B)/268 Appendix VII/Table 1; Change of Official EPA Mailing Address (66 FR 34374, 06/28/01)(Checklist 193)/260.11(a)(11); Mixture & Derived-From Rules Revision II (66 FR 50332, 10/03/01)(Checklist 194)/261.3(a)(2)(iv), and 261.3(g)(4); Inorganic Chemical Manufacturing Wastes Identification & Listing (66 FR 58258, 11/20/01, and 67 FR 17119, 04/09/02)(Checklists 195 and 195.1)/261.4(15), 261.32, 261 Appendix VII, 268.36(a)&(b), and 268.40/Table; Vacatur of Mineral Processing Spent Materials Being Reclaimed as Solid Wastes & TCLP Use with MGP Waste (67 FR 11251, 03/13/02)(Checklist 199)/261.2(c)(3), 261.4(a)(17), and 261.24(a); Zinc Fertilizer Rule (67 FR 48393, 07/24/02)(Checklist 200)/261.4, 261.4(a)(20)&(21), 267.20, 267.20(d), 267.20(d)(1)&(2), and 268.40; Performance Track (69 FR 21737, 04/22/04 and 69 FR 62217, 10/25/04)(Checklists 204 and 204.1)/262.34(k)-(m), effective March 2, 2005.

H. Where Are the Revised State Rules Different From the Federal Rules?

Colorado has requirements that are more stringent than the federal rules at (references are to the Code of Colorado Regulations, except where there is no State analog. Then the reference is to the federal citation): 100.11(f)(2)&(3), 100.11(f)(4)(i)(A)&(C), 100.41(a)(15),(16),&(22), 100 Appendix I, 261.3(a)(2)(iv), 261.3(c)(2)(i), 261.3(h)(1)-(3) no State analogs, 262.34(l)&(m), 264.112(d)(2)(i), 264.113(e)(5), 264.151(i)(2)(d) no State analog, 264.551, 264.552(a)(1), 264.552(a)(1)(ii)(A), 264.552(a)(3)(iii), 264.552(c)(4)&(5), 264.552(c)(7), 264.552(e)(3), 264.552(e)(3)(i) thru (ii)(A) no State analogs, 264.552(e)(4)(i)(A) thru (B), 264.552(e)(4)(v)(E)(5), 264.552(e)(6)(i)(B), 264.552(e)(6)(v), 264.552(e)(6)(v)(B), 264.552(k), & (l), 264.555(a) thru (g) no State analogs, 265.112(e), 265.113(e)(5), 266.16(i)(1), 266.16(j)(1), 266.16(k)(1), 266.18(h)(2), 266.18(i) thru (k), 268.40(e), 268.7(a)(7), 268.40/Table “Treatment Standards for Hazardous Wastes”, 268.48/Table UTS, 270.14(b)(15)&(16).

Colorado is broader-in-scope than the federal rules at: 261.32 (K140) and 268.40/table (K140 & U408).

Colorado is in the process of adopting the federal regulations regarding Boilers & Industrial Furnaces (BIFs). Until the State is authorized for BIF regulations, some of the above approved rules do not include references to these type of facilities at this time.

I. Who Handles Permits After the Authorization Takes Effect?

Colorado will issue permits for all the provisions for which it is authorized and will administer the permits it issues. EPA will continue to administer any RCRA hazardous waste permits or portions of permits which were issued prior to the effective date of this authorization until Colorado has equivalent instruments in place. We will not issue any new permits or new portions of permits for the provisions listed in Item G after the effective date of this authorization. EPA previously suspended issuance of permits for other provisions on the effective date of Colorado's final authorization for the RCRA base program and each of the revisions listed in Item F. EPA will continue to implement and issue permits for HSWA requirements for which Colorado is not yet authorized.

J. How Does This Action Affect Indian Country (18 U.S.C. 1151) in Colorado?

Colorado is not authorized to carry out its RCRA program in “Indian country”, as defined in 18 U.S.C. 1151. This includes: (1) Lands within the exterior boundaries of the following Indian reservations located within or abutting the State of Colorado, (a) Southern Ute Indian Reservation and (b) Ute Mountain Ute Indian Reservation; (2) any land held in trust by the United States for an Indian tribe, and (3) any other areas which are “Indian country” within the meaning of 18 U.S.C. 1151.

Therefore, this program revision does not extend to Indian country where EPA will continue to implement and administer the RCRA program in these lands.

K. What is Codification and is EPA Codifying Colorado's Hazardous Waste Program as Authorized in This Rule?

Codification is the process of placing a State's statutes and regulations that comprise the State's authorized hazardous waste program into the CFR. We do this by referencing the authorized State rules in 40 CFR part 272. We reserve the amendment of 40 CFR part 272, subpart G for the codification of Colorado's updated program until a later date.

L. Statutory and Executive Order Reviews

The Office of Management and Budget has exempted this action from the requirements of Executive Order 12866 (58 FR 51735, October 4, 1993), and therefore this action is not subject to review by OMB. This action authorizes State requirements for the purpose of RCRA 3006 and imposes no additional requirements beyond those imposed by state law. Accordingly, I certify that this action will not have a significant economic impact on a substantial number of small entities under the Regulatory Flexibility Act (5 U.S.C. 601 et seq.). Because this action authorizes pre-existing requirements under state law and does not impose any additional enforceable duty beyond that required by state law, it does not contain any unfunded mandate or significantly or uniquely affect small governments, as described in the Unfunded Mandates Reform Act of 1995 (Pub. L. 104-4). For the same reason, this action also does not significantly or uniquely affect the communities of Tribal governments, as specified by Executive Order 13175 (65 FR 67249, November 9, 2000). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355, May 22, 2001), because it is not a significant regulatory action under Executive Order 12866.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective May 12, 2008.

List of Subjects in 40 CFR Part 271

Environmental protection, Administrative practice and procedure, Confidential business information, Hazardous waste, Hazardous waste transportation, Incorporation-by-reference, Indian lands, Intergovernmental relations, Penalties, Reporting and recordkeeping requirements.

Authority: This action is issued under the authority of sections 2002(a), 3006 and 7004(b) of the Solid Waste Disposal Act as amended 42 U.S.C. 6912(a), 6926, 6974(b).

Dated: February 28, 2008.
Carol Rushin,
Acting Regional Administrator, Region 8.

[FR Doc. E8-4978 Filed 3-11-08; 8:45 am]

BILLING CODE 6560-50-P